DEPARTMENT OF AGRICULTURE

Animal and Plant Health Inspection Service

[Docket No. APHIS-2018-0043]

Notice of Availability of an Evaluation of the Foot-and-Mouth Disease Status of Singapore

AGENCY: Animal and Plant Health Inspection Service, USDA.

ACTION: Notice of availability.

SUMMARY: We are advising the public that we are proposing to recognize Singapore as being free of foot-and-mouth disease. This proposed recognition is based on an evaluation we have prepared in connection with this action, which we are making available for review and comment.

DATES: We will consider all comments that we receive on or before May 20, 2019.

ADDRESSES: You may submit comments by either of the following methods:

• Federal eRulemaking Portal: Go to http://www.regulations.gov/#!docketDetail;D=APHIS-2018-0043.

• Postal Mail/Commercial Delivery: Send your comment to Docket No. APHIS-2018-0043, Regulatory Analysis and Development, PPD, APHIS, Station 3A-03.8, 4700 River Road, Unit 118, Riverdale, MD 20737-1238.

Supporting documents and any comments we receive on this docket may be viewed at http://www.regulations.gov/#!docketDetail;D=APHIS-2018-0043 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Roberta A. Morales, Senior Staff Veterinarian, Regionalization Evaluation Services, Strategy and Policy, VS, APHIS, 920 Main Campus Drive, Raleigh, NC 27606; (919) 855-7735; Roberta.A.Morales@aphis.usda.gov.

SUPPLEMENTARY INFORMATION: The regulations in 9 CFR part 94 (referred to below as the regulations) govern the importation of certain animals and animal products into the United States to prevent the introduction of various animal diseases, including foot-and-mouth disease (FMD). The regulations prohibit or restrict the importation of live ruminants and swine, and products from these animals, from regions where APHIS considers FMD to exist.

Within part 94, § 94.1 contains requirements governing the importation of ruminants and swine from regions where FMD exists and the importation of the meat of any ruminants or swine from regions where FMD exists to prevent the introduction of this disease into the United States. We consider FMD to exist in all regions except those listed in accordance with paragraph (a) of that section as free of FMD.

Section 94.11 of the regulations contains requirements governing the importation of meat of any ruminants or swine from regions that have been determined to be free of FMD, but that are subject to certain restrictions because of their proximity to or trading relationships with FMD-affected regions. Such regions are listed in accordance with paragraph (a) of that section.

The regulations in 9 CFR part 92, § 92.2, contain requirements for requesting the recognition of the animal health status of a region (as well as for the approval of the export of a particular type of animal or animal product to the United States from a foreign region). If, after review and evaluation of the information submitted in support of the request, APHIS believes the request can be safely granted, APHIS will make its evaluation available for public comment through a document published in the Federal Register. Following the close of the comment period, APHIS will review all comments received and will make a final determination regarding the request that will be detailed in another document published in the Federal Register.

Singapore submitted a request to APHIS to evaluate the FMD status of the country. In response to this request, APHIS conducted a qualitative risk assessment to evaluate Singapore with respect to this disease. Based on this evaluation, APHIS recognizes Singapore to be free of FMD. APHIS has also determined that the surveillance, prevention, and control measures implemented by Singapore are sufficient to minimize the likelihood of introducing FMD into the United States via imports of species susceptible to this disease or products of those species. Our determination supports adding Singapore to the Web-based list of regions APHIS considers free of FMD.

Therefore, in accordance with § 92.2(e), we are announcing the availability of our risk evaluation of the FMD status of Singapore for public review and comment. We are also announcing the availability of an environmental assessment (EA), which has been prepared in accordance with: (1) The National Environmental Policy Act of 1969 (NEPA), as amended (42 U.S.C. 4321 et seq.), (2) regulations of the Council on Environmental Quality for implementing the procedural provision of NEPA (40 CFR parts 1500-1508), (3) USDA regulations implementing NEPA (7 CFR part 1b), and (4) APHIS' NEPA Implementing Procedures (7 CFR part 372). The evaluation and the EA may be viewed on the Regulations.gov website or in our reading room. (Instructions for accessing Regulations.gov and information on the location and hours of the reading room are provided under the heading ADDRESSES at the beginning of this notice.) The documents are also available by contacting the person listed under FOR FURTHER INFORMATION CONTACT.

Information submitted in support of Singapore's original request is available by contacting the person listed under FOR FURTHER INFORMATION CONTACT.

After reviewing any comments we receive, we will announce our decision regarding the disease status of Singapore with respect to FMD and the import status of susceptible animals and products of such animals in a subsequent notice.

Authority: 7 U.S.C. 1633, 7701-7772, 7781-7786, and 8301-8317; 21 U.S.C. 136 and 136a; 31 U.S.C. 9701; 7 CFR 2.22, 2.80, and 371.4.

Done in Washington, DC, this March 13, 2019.
Kevin Shea,
Administrator, Animal and Plant Health Inspection Service.

[FR Doc. 2019-05073 Filed 3-18-19; 8:45 am]

BILLING CODE 3410-34-P